DEPARTMENT OF ENERGY

Senior Executive Service; Performance Review Board

AGENCY: U.S. Department of Energy.

ACTION: SES Performance Review Board Standing Register.

SUMMARY: This notice provides the Performance Review Board Standing Register for the Department of Energy. This listing supersedes all previously published lists of PRB members.

DATES: These appointments are effective as of September 30, 2010.

Adams, Vincent Nmn

Allison, Jeffrey M

Amaral, David M

Anderson, Cynthia V

Anderson, Margot H

Aoki, Steven Nmn

Ascanio, Xavier Nmn

Baker, Kenneth E

Barker Jr, William L

Barwell, Owen F

Battershell, Carol J

Beamon, Joseph A

Beard, Jeanne M

Beard, Susan F

Beaudry-Losique, Jacques A

Beausoleil, Geoffrey L

Bekkedahl, Larry N

Bell, Melody C

Berkowitz, Barry E

Bieniawski, Andrew J

Bishop, Clarence T

Bishop, Tracey L

Black, Richard L

Black, Steven K

Boardman, Karen L

Bonilla, Sarah J

Borgstrom, Carol M

Borgstrom, Howard G

Bosco, Paul Nmn

Boulden Iii, John S

Boyd, David O

Boyd, Gerald G

Boyko, Thomas R

Boyle, William J

Brese, Robert F

Brewer, Stephanie J

Brockman, David A

Bromberg, Kenneth M

Brott, Matthew J

Brown Iii, Robert J

Brown, Fred L

Brown, Stephanie H

Brown, Thomas E

Bryan, Paul F

Bryan, William N

Burch, Linda C

Burrows, Charles W

Buttress, Larry D

Buzzard, Christine M

Cadieux, Gena E

Callahan, Samuel N

Campbell Ii, Hugh T

Cannon, Scott C

Carabetta, Ralph A

Carosino, Robert M

Cavanagh, James J

Cerveny, Thelma J

Chalk, Steven G

Charboneau, Stacy L

Check, Peter L

Choi, Joanne Y

Chung, Dae Y

Clapper, Daniel R

Clark, Diana D

Clinton, Rita M

Cohen, Daniel Nmn

Collazo, Yvette T

Como, Anthony J

Connor, Michael A

Conti, John J

Cook, John S

Corbin, Robert F

Corey, Ray J

Costlow, Brian D

Craig Jr, Jackie R

Crandall, David H

Crawford, Glen D

Crouther, Desi A

Cugini, Anthony V

Cutler, Thomas Russell

Davenport, Shari T

Davis, Kimberly A

Davis, Patrick B

De Vos, Erica Nmn

Dearolph, Douglas J

Decker, Anita J

Dedik, Patricia Nmn

Deeney, Christopher Nmn

Dehaven, Darrel S

Dehmer, Patricia M

Dehoratiis Jr, Guido Nmn

Delhotal, Katherine Casey

Der, Victor K

Diamond, Bruce M

Dicapua, Marco S

Difiglio, Carmen Nmn

Dixon, Robert K

Dowell, Jonathan A

Duke Jr, Richard D

Eckroade, William A

Edwards Jr, Robert H

Ehli, Cathy L

Ekimoff, Lana Nmn

Elkind, Jonathan H

Ely, Lowell V

Erhart, Steven C

Eschenberg, John R

Ferraro, Patrick M

Flohr, Connie M

Foley, Thomas C

Franco Jr., Jose R

Franklin, Rita R

Frantz, David G

Fremont, Douglas E

Fresco, Mary Ann E

Furstenau, Raymond V

Fygi, Eric J

Garcia, Donald J

Gasperow, Lesley A

Geernaert, Gerald L

Geiser, David W

Gelles, Christine M

Gendron, Mark O

Gerrard, John E

Gibbs, Robert C

Gibson Jr, William C

Gilbertson, Mark A

Gillo, Jehanne E

Gist, Walter J

Golan, Paul M

Goldsmith, Robert Nmn

Golub, Sal Joseph

Goodrum, William S

Goodwin, Karl E

Gordon, Theanne E

Greenaugh, Kevin C

Greenwood, Johnnie D

Gruenspecht, Howard K

Guevara, Arnold E

Guevara, Karen C

Hale, Andrew M

Hallman, Timothy J

Handschy, Mark A

Handwerker, Alan I

Hannigan, James J

Hardwick Jr, Raymond J

Harms, Timothy C

Harrell, Jeffrey P

Harrington, Paul G

Harris, Robert J

Harvey, Stephen J

Held, Edward B

Henderson Iii, Clyde H

Henneberger, Karen O

Henneberger, Mark W

Henry, Eugene A

Herrera, C Robert D

Hine, Scott E

Hintze, Douglas E

Hoffman, Dennis J

Hogan, Kathleen B

Holecek, Mark L

Holland, Michael D

Holland, Michael J

Holland, Wendolyn S

Hollrith, James W

Horton, Linda L

Howard, Michael F

Huffer, Warren L

Huizenga, David G

Hunteman, William J

Jenkins, Amelia F

Johns, Christopher S

Johnson, David F

Johnson, Kristina M

Johnson, Robert Shane

Johnson, Sandra L

Jonas, David S

Jones, Gregory A

Jones, Marcus E

Jones, Wayne Nmn

Juarez, Liova D

Kaempf, Douglas E

Kane, Michael C

Kaplan, Stan M

Kearney, James H

Kelly, Henry C

Kelly, Larry C

Kenchington, Henry S

Kendell, James M

Ketcham, Timothy E

Kidd Iv, Richard G

Kight, Gene H

Klara, Scott M

Klausing, Kathleen A

Kling, Jon Nmn

Knoell, Thomas C

Knoll, William S

Kolb, Ingrid A C

Koury, John F

Kovar, Dennis G

Krahn, Steven L

Krol, Joseph J

Kung, Huijou Harriet

Kusnezov, Dimitri F

Lagdon Jr, Richard H

Lambert, James B

Lange, Robert G

Lawrence, Andrew C

Lawrence, Steven J

Leckey, Thomas J

Lee, Steven Nmn

Lee, Terri Tran

Legg, Kenneth E

Lehman, Daniel R

Leifheit, Kevin R

Leistikow, Daniel A

Lempke, Michael K

Lev, Sean A

Levitan, William M

Lewis Iii, Charles B

Lewis Jr, William A

Lewis, Roger A

Lingan, Robert M

Livengood, Joanna M

Lockwood, Andrea K

Lowe, Owen W

Loyd, Richard Nmn

Luczak, Joann H

Lushetsky, John M

Lynch, Timothy G

Lyons, Peter B

Macintyre, Douglas M

Mainzer, Elliot E

Malosh, George J

Marcinowski Iii, Francis N

Marlay, Robert C

Marmolejos, Poli A

Mcarthur, Billy R

Mcbrearty, Joseph A

Mccloud, Floyd R

Mcconnell, James J

Mccormick, Matthew S

Mcginnis, Edward G

Mcguire, Patrick W

Mckee, Barbara N

Mckenzie, John M

Mcrae, James Bennett

Meacham, A Avon

Meeks, Timothy J

Mellington, Stephen A

Mellington, Suzanne P

Miller, Wendy L

Milliken, Joann Nmn

Minvielle, Thomas M

Miotla, Dennis M

Moe, Darrick C

Mollot, Darren J

Monette, Deborah D

Montano, Pedro A

Montoya, Anthony H

Moody Iii, David C

Moore, Johnny O

Moorer, Richard F

Moredock, J Eun

Mortenson, Victor A

Mueller, Troy J

Murphie, William E

Mustin, Tracy P

Naples, Elmer M

Nassif, Robert J

Nelson Jr, Robert M

Neuhoff, Jon W

Newman, Larry Nmn

Nicoll, Eric G

Niedzielski-Eichner, P A

Nolan, Elizabeth A

O'connor, J Roderick

O'connor, Stephen C

O'connor, Thomas J

O'konski, Peter J

Olencz, Joseph Nmn

Olinger, Shirley J

Oliver, Leann M

Osheim, Elizabeth L

Ott, Merrie Christine

Owendoff, James M

Palmisano, Anna C

Pavetto, Carl S

Pease, Harrison G

Penry, Judith M

Person Jr, George L

Peterson, Bradley A

Phan, Thomas H

Podonsky, Glenn S

Porter, Steven A

Powers, Kenneth W

Procario, Michael P

Provencher, Richard B

Purucker, Roxanne E

Raines, Robert B

Ramsey, Clay Harrison

Rhoderick, Jay E

Richards, Aundra M

Richardson, Susan S

Rider, Melissa D

Risser, Roland J

Rodgers, David E

Rodgers, Stephen J

Roege, William H

Rohlfing, Eric A

Russo, Frank B

Salmon, Jeffrey T

Satyapal, Sunita Nmn

Savage, Carter D

Scheinman, Adam M

Schoenbauer, Martin J

Schuneman, Patricia J

Scott, Randal S

Seward, Lachlan W

Shafik, Christine M

Sheely, Kenneth B

Sheppard, Catherine M

Sherry, Theodore D

Shoop, Doug S

Short, Stephanie A

Silver, Jonathan M

Simonson, Steven C

Sitzer, Scott B

Skubel, Stephen C

Smith, Christopher A

Smith, Kevin W

Smith, Thomas Z

Smith-Kevern, Rebecca F

Snider, Eric S

Snyder, Roger E

Spears, Terrel J

Sperling, Gilbert P

Staker, Thomas R

Stallman, Robert M

Stark, Richard M

Stenseth, William Lynn

Stone, Barbara R

Strayer, Michael R

Streit, Lisa D

Surash, John E

Sweetnam, Glen E

Sykes, Merle L

Synakowski, Edmund J

Talbot Jr, Gerald L

Taylor, William J

Thompson, Michael A

Thress Jr, Donald F

Toczko, James E

Tomer, Bradley J

Trautman, Stephen J

Tucker, Craig A

Turnbull, William Thomas

Turner, Shelley P

Tyner, Teresa M

Utech, Dan G

Valdez, William J

Vavoso, Thomas G

Venuto, Kenneth T

Waddell, Joseph F

Wagner, M Patrice

Waisley, Sandra L

Ward, Gary K

Warnick, Walter L

Warren, Bradley S

Weatherwax, Sharlene C

Weedall, Michael J

Weis, Michael J

Welling, David Craig

Weston-Dawkes, Andrew P

Whitney, James M

Wilber, Deborah A

Wilcher, Larry D

Wilken, Daniel H

Williams, Alice C

Williams, Rhys M

Wilson Jr, Thomas Nmn

Wood, James F

Worley, Michael N

Worthington, Jon C

Worthington, Patricia R

Wu, Chuan-Fu Nmn

Wyka Jr, Theodore A

Yoshida, Phyllis G

Yuan-Soo Hoo, Camille C

Zabransky, David K

Zamorski, Michael J

Zeh, Charles M

Issued in Washington, DC, November 3, 2010.
Sarah J. Bonilla,
Director, Office of Human Capital Management.

[FR Doc. 2010-28370 Filed 11-9-10; 8:45 am]

BILLING CODE 6450-01-P